NATIONAL SCIENCE FOUNDATION

Agency Information Collection Activities: Comment Request; Standard Application Process (SAP) Portal

AGENCY: National Center for Science and Engineering Statistics, National Science Foundation.

ACTION: Submission for OMB review; comment request.

SUMMARY: The National Center for Science and Engineering Statistics (NCSES) within the National Science Foundation (NSF) has submitted the following information collection requirement to OMB for review and clearance under the Paperwork Reduction Act of 1995. This is the second notice for public comment; the first was published in the Federal Register and one comment was received. NCSES is forwarding the proposed SAP Portal information collection as a Common Form to the Office of Management and Budget (OMB) for clearance simultaneously with the publication of this second notice. The full submission may be found at: http://www.reginfo.gov/public/do/PRAMain.

DATES: Written comments and recommendations for the proposed information collection should be sent within 30 days of publication of this notice to www.reginfo.gov/public/do/PRAmain. Find this particular information collection by selecting “Currently under 30-day Review—Open for Public Comments” or by using the search function.

FOR FURTHER INFORMATION CONTACT: Suzanne H. Plimpton, Reports Clearance Officer, National Science Foundation, 2415 Eisenhower Avenue, Alexandria, VA 22314, or send email to splimpto@nsf.gov. Individuals who use a telecommunications device for the deaf (TDD) may call the Federal Information Relay Service (FIRS) at 1-800-877-8339, which is accessible 24 hours a day, 7 days a week, 365 days a year (including federal holidays). Comments regarding this information collection are best assured of having their full effect if received within 30 days of this notification. Copies of the submission(s) may be obtained by calling 703-292-7556.

Comments: Comments regarding (a) whether the proposed collection of information is necessary for the proper performance of the functions of the NSF, including whether the information shall have practical utility; (b) the accuracy of the NSF's estimate of the burden of the proposed collection of information; (c) ways to enhance the quality, use, and clarity of the information on respondents; and (d) ways to minimize the burden of the collection of information on those who are to respond, including through the use of appropriate automated, electronic, mechanical, or other technological collection techniques or other forms of information technology should be addressed to the points of contact in the FOR FURTHER INFORMATION CONTACT section.

SUPPLEMENTARY INFORMATION:

Comment: As required by 5 CFR 1320.8(d), comments on the information collection activities as part of this study were solicited through the publication of a 60-Day Notice in the Federal Register at 87 FR 53793. NCSES received one comment requesting clarity on the scope of the SAP Portal effort and responded to the comment by mentioning that the adoption of the SAP is required for statistical agencies and units designated under the Confidential Information Protection and Statistical Efficiency Act of 2018 (CIPSEA). In addition, NCSES mentioned that other agencies and organizational units within the Executive branch may, over time, benefit from the adoption of the SAP to accept applications for access to confidential data assets.

NSF may not conduct or sponsor a collection of information unless the collection of information displays a currently valid OMB control number, and the agency informs potential persons who are to respond to the collection of information that such persons are not required to respond to the collection of information unless it displays a currently valid OMB control number.

Title of Collection: Standard Application Process (SAP) Portal.

OMB Control Number: 3145-NEW.

Summary of Collection: Title III of the Foundations for Evidence-Based Policymaking Act of 2018 (hereafter the Evidence Act) mandates that OMB establish a Standard Application Process (SAP) for requesting access to certain confidential data assets. While the adoption of the SAP is required for statistical agencies and units designated under the Confidential Information Protection and Statistical Efficiency Act of 2018 (CIPSEA), it is recognized that other agencies and organizational units within the Executive Branch may benefit from the adoption of the SAP to accept applications for access to confidential data assets. The SAP is to be a process through which agencies, the Congressional Budget Office, State, local, and Tribal governments, researchers, and other individuals, as appropriate, may apply to access confidential data assets held by a federal statistical agency or unit for the purposes of developing evidence. With the Interagency Council on Statistical Policy (ICSP) as advisors, the entities upon whom this requirement is levied are working with the SAP Project Management Office (PMO) and with OMB to implement the SAP. The SAP Portal is to be a single web-based common application designed to collect information from individuals requesting access to confidential data assets from federal statistical agencies and units.

This information collection request is on behalf of the following federal statistical agencies and units, which may use the Common Form:

• Bureau of Economic Analysis (Department of Commerce)

• Bureau of Justice Statistics (Department of Justice)

• Bureau of Labor Statistics (Department of Labor)

• Bureau of Transportation Statistics (Department of Transportation)

• Census Bureau (Department of Commerce)

• Economic Research Service (Department of Agriculture)

• Energy Information Administration (Department of Energy)

• National Agricultural Statistics Service (Department of Agriculture)

• National Center for Education Statistics (Department of Education)

• National Center for Health Statistics (Department of Health and Human Services)

• National Center for Science and Engineering Statistics (National Science Foundation)

• Office of Research, Evaluation, and Statistics (Social Security Administration)

• Statistics of Income Division (Internal Revenue Service)

• Microeconomic Surveys Unit (Federal Reserve Board)

• Center for Behavioral Health Statistics and Quality (Department of Health and Human Services)

• National Animal Health Monitoring System (Department of Agriculture)

The objective of the SAP Portal is to broaden access to confidential data for the purposes of evidence building and reduce the burden of applying for confidential data, which currently involves separate processes with each of the federal statistical agencies and units. The new process will be implemented while maintaining stringent controls to protect confidentiality and privacy, as required by law.

The following bullets outline the major components and processes in and around the SAP Portal.

• SAP Policy: At the recommendation of the ICSP, the SAP Policy establishes the SAP to be implemented by statistical agencies and units and incorporates directives from the Evidence Act. The SAP Policy was submitted to the public for comment in January 2022 (87 FR 2459). The policy is currently under review and has not yet been finalized.

• The SAP Portal: The SAP Portal is an application interface connecting applicants seeking data with a catalog of metadata for data assets owned by the federal statistical agencies and units. The SAP Portal is not a new data repository or warehouse; confidential data assets will continue to be stored in secure data access facilities owned and hosted by the federal statistical agencies and units. The Portal will provide a streamlined application process across agencies, reducing redundancies in the application process. This single SAP Portal will improve the process for applicants, tracking and communicating the application process throughout its lifecycle. This reduces redundancies and burden on applicants who request access to data from multiple agencies. The SAP Portal will automate key tasks to save resources and time and will bring agencies into compliance with the Evidence Act statutory requirements.

• Data Discovery: Individuals begin the process of accessing restricted use data by discovering confidential data assets through the SAP metadata catalog, maintained by federal statistical agencies at www.researchdatagov.org.

• SAP Portal Application Process: Individuals who have identified and wish to access confidential data assets will be able to apply for access through the SAP Portal when it is released to the public in late 2022. Applicants must create an account and follow all steps to complete the application. Applicants begin by entering their personal, contact, and institutional information, as well as the personal, contact, and institutional information of all individuals on their research team. Applicants provide summary information about their proposed project to include project title, duration, funding, and timeline. Other details provided by applicants include the data asset(s) they are requesting and any proposed linkages to data not listed in the SAP metadata catalog, including non-federal data sources. Applicants then enter detailed information regarding their proposed project, including a project abstract, research question(s),

• Submission for Review: Agencies approve or reject an application within a prompt timeframe. Agencies may also request applicants to revise and resubmit their application.

• Appeals Process: Applicants receiving an adverse determination have the option to submit an appeal for reconsideration by the data-owning agency or agencies. Applicants may also file an appeal for noncompliance with the SAP Policy.

• Access to Restricted Use Data: Approved applicants are notified through the SAP Portal that their proposal has been accepted. This concludes the SAP Portal process. Agencies will contact approved applicants to initiate completion of their security documents. The completion and submission of the agency's security requirements will take place outside of the SAP Portal and is therefore not included in the estimate of burden below.

Estimate of Burden: The amount of time to complete an application within the SAP Portal may vary depending on the number of individuals on the application, the topic of the proposal, and the data assets being requested. To request access to NCSES data assets, it is estimated that the average time to complete and submit an application within the SAP Portal is 60 minutes. This estimate includes the time needed to complete the SAP Portal application fields (applicant information and research proposal); it does not include an estimate of the time needed to develop a research proposal itself. The research proposal is developed outside of the SAP Portal and may be written for multiple audiences (e.g., to solicit funding); therefore, it is not included in the estimate of burden for the SAP Portal.

The expected number of applications submitted to NCSES in a given year may vary. Overall, NCSES estimates it may receive 20 application submissions within the SAP Portal per year. NCSES estimates that the total burden for the SAP Portal over the course of the three-year OMB clearance will be about 60 hours and, as a result, an average annual burden of 20 hours.

Dated: November 1, 2022.
Suzanne H. Plimpton,
Reports Clearance Officer, National Science Foundation.

[FR Doc. 2022-24099 Filed 11-3-22; 8:45 am]

BILLING CODE 7555-01-P